DEPARTMENT OF LABOR

Employment and Training Administration

Notice of a Change in Status of an Extended Benefit (EB) Period for Arizona, Delaware, and New York

AGENCY: Employment and Training Administration, Labor.

ACTION: Notice.

SUMMARY: This notice announces a change in benefit period eligibility under the EB program for Arizona, Delaware, and New York.

The following change has occurred since the publication of the last notice regarding these States' EB statuses:

• Total unemployment rate (TUR) data for June 2009, released on July 17, 2009, by the Bureau of Labor Statistics, brought the three-month average seasonally adjusted TURs in Arizona, Delaware, and New York to the threshold for triggering “on” to a high unemployment period (HUP) under the EB program. Beginning on August 2, 2009, eligible claimants will be able to collect up to 20 weeks of additional Unemployment Insurance benefits. A Federal Register notice must be issued shortly, announcing the change in the EB status for these states.

Information for Claimants

The duration of benefits payable in the EB Program, and the terms and conditions on which they are payable, are governed by the Federal-State Extended Unemployment Compensation Act of 1970, as amended, and the operating instructions issued to the states by the U.S. Department of Labor. In the case of a state beginning a HUP period, the State Workforce Agency will furnish a written notice of potential entitlement to each individual who may be eligible for increased benefits due to the HUP (20 CFR 615.13 (c) (1)).

Persons who wish to inquire about their rights under the program should contact their State Workforce Agency.

FOR FURTHER INFORMATION CONTACT: Scott Gibbons, U.S. Department of Labor, Employment and Training Administration, Office of Workforce Security, 200 Constitution Avenue, NW., Frances Perkins Bldg., Room S-4231, Washington, DC 20210, telephone number (202) 693-3008 (this is not a toll-free number) or by e-mail: gibbons.scott@dol.gov.

Signed in Washington, DC, this 6th day of August, 2009.
Jane Oates,
Assistant Secretary, Employment and Training Administration.

[FR Doc. E9-19201 Filed 8-10-09; 8:45 am]

BILLING CODE 4510-FW-P